DEPARTMENT OF EDUCATION

[Docket ID ED-2025-FSA-0184]

Privacy Act of 1974; Matching Program

AGENCY: Federal Student Aid, U.S. Department of Education.

ACTION: Notice of a new matching program.

SUMMARY: Pursuant to the Privacy Act of 1974, as amended by the Computer Matching and Privacy Protection Act of 1988 and the Computer Matching and Privacy Protection Amendments of 1990 (Privacy Act), and Office of Management and Budget (OMB) guidance on the conduct of matching programs, notice is hereby given of the re-establishment of the matching program between the U.S. Department of Education (Department), as the recipient agency, and the Social Security Administration (SSA), as the source agency, to ensure that applicants for title IV, HEA program assistance satisfy eligibility requirements under title IV of the Higher Education Act of 1965, as amended (HEA).

DATES: Submit your comments on the proposed re-establishment of the matching program on or before September 5, 2025.

The period of this matching program is estimated to cover the 12-month period from October 11, 2025, through October 10, 2026. However, the computer matching agreement (CMA) will become applicable at the later of the following two dates: October 11, 2025, or 30 days after the publication of this notice, on August 6, 2025, unless comments have been received from interested members of the public requiring revision to and republication of the notice. The matching program will continue for 12 months after the applicable date and may be extended for up to an additional 12 months, if the respective agency Data Integrity Boards (DIBs) determine that the conditions specified in 5 U.S.C. 552a(o)(2)(D) have been met.

ADDRESSES: Comments must be submitted via the Federal eRulemaking Portal at regulations.gov. However, if you require an accommodation or cannot otherwise submit your comments via regulations.gov, please contact the program contact person listed under FOR FURTHER INFORMATION CONTACT. The Department will not accept comments submitted by fax or by email, or comments submitted after the comment period. To ensure that the Department does not receive duplicate copies, please submit your comments only once. In addition, please include the Docket ID at the top of your comments.

• Federal eRulemaking Portal: Go to www.regulations.gov to submit your comments electronically. Information on using Regulations.gov, including instructions for accessing agency documents, submitting comments, and viewing the docket, is available on the site under “FAQ”.

Privacy Note: The Department's policy is to make all comments received from members of the public available for public viewing in their entirety on the Federal eRulemaking Portal at www.regulations.gov. Therefore, commenters should be careful to include in their comments only information that they wish to make publicly available.

FOR FURTHER INFORMATION CONTACT: Dennis Kramer, Director, Data Policy and Evaluation Policy Implementation Division, U.S. Department of Education, Federal Student Aid, 400 Maryland Ave. SW, Washington, DC 20024. Telephone: (202) 676-7918.

If you are deaf, hard of hearing, or have a speech disability and wish to access telecommunications relay services, please dial 7-1-1.

SUPPLEMENTARY INFORMATION:

In accordance with the Privacy Act; OMB “Final Guidance Interpreting the Provisions of Public Law 100-503, the Computer Matching and Privacy Protection Act of 1988,” published in the Federal Register on June 19, 1989 (54 FR 25818); and OMB Circular No. A-108, notice is hereby provided of the re-establishment of the matching program between SSA and ED to assist ED in the verification of Social Security numbers (SSNs), confirmation of citizenship status as recorded in SSA records, and death indicators (when applicable) of individuals who initiate the steps associated with accessing programs authorized by title IV of the Higher Education Act, or participating in the application process for such assistance, to assist ED in meeting its obligations under title IV of the HEA, including to ensure that applicants for Title IV, HEA program assistance satisfy eligibility requirements.

PARTICIPATING AGENCIES:

U.S. Department of Education and the Social Security Administration.

AUTHORITY FOR CONDUCTING THE MATCHING PROGRAM:

The Department's legal authority to enter into this matching program includes Section 484(o) of the HEA (20 U.S.C. 1091(o)); Section 484(g) of the HEA (20 U.S.C. 1091(g)); Section 483(a)(2)(B) of the HEA (20 U.S.C. 1090(a)(2)(B)); Section 428B(f) of the HEA (20 U.S.C. 1078-2(f)); and Sections 427, 432, 451, 483, and 484 of the HEA (20 U.S.C. 1077, 1082, 1087a, 1090, and 1091).

SSA is authorized to disclose information under this matching program under section 1106 of the Social Security Act (42 U.S.C. 1306) and the regulations promulgated pursuant to that section (20 CFR part 401), and subsection (b)(3) of the Privacy Act (5 U.S.C. 552a(b)(3)). Section 7213 of the Intelligence Reform and Terrorism Prevention Act of 2004 provides SSA authority to add a death indicator to verification routines that SSA determines to be appropriate.

PURPOSE(S):

The CMA establishes the terms, safeguards, and procedures under which the SSA will provide to ED SSN verification, citizenship status as recorded in SSA records, and death indicators (when applicable) of individuals who initiate the steps associated with accessing programs authorized by title IV of the HEA, or participating in the application process for such assistance, to assist ED in meeting its obligations under title IV of the HEA, including to ensure that applicants for title IV, HEA program assistance satisfy eligibility requirements.

CATEGORIES OF INDIVIDUALS:

ED will send to SSA records on individuals who initiate the steps associated with accessing programs administered under the authority of title IV of the HEA (applying for an FSA ID/creating a StudentAid.gov account), who qualify as an eligible applicant, and who apply for Federal student financial assistance through the Free Application for Federal Student Aid (FAFSA®). SSA will match ED's records to its files on each individual who has applied for a FAFSA and obtained an SSN.

CATEGORIES OF RECORDS:

The specific data elements that ED will transmit to SSA are: SSN, first name, last name, and date of birth (DOB).

SSA's system of records involved in the matching program maintains information required to apply for and obtain an SSN. The specific data elements that SSA will send back to ED include: SSN, first name, last name, DOB, and an SSA verification code on each record to indicate the match results. The verification codes are: 1 = No match on SSN, 3 = SSN match, name match, no match on DOB, 5 = SSN match, no match on name, DOB not checked, 6 = SSN not verified, Blank = SSN match, name match, DOB match. SSA will also send a death indicator if one is present on SSA's database for the record. Records returned from SSA also will include a citizenship status code as follows: A = U.S. citizen, B = legal alien, eligible to work, C = legal alien, not eligible to work, D = other, E = alien, student restricted, F = conditionally legalized alien, * = foreign born, Blank = domestic born (U.S. citizen), N = unable to verify citizenship due to no match on name, DOB, or SSN.

SYSTEM(S) OF RECORDS:

The Department will disclose records to SSA from its systems of records entitled “Aid Awareness and Application Processing” (AAAP)(18-11-21), which was last fully published in the Federal Register on November 7, 2024 (89 FR 88240) and “Person Authentication Service (PAS)” (18-11-12), which was last fully published in the Federal Register on July 28, 2023 (88 FR 48817). In addition, ED will maintain the information that it receives back from SSA in the “Common Origination and Disbursement (COD) System” (18-11-02), which was last fully published in the Federal Register on June 28, 2023 (88 FR 41942).

SSA will disclose records back to the Department from its systems of records identified as the “Master Files of Social Security Number (SSN) Holders and SSN Applications” (Enumeration Verification System) 60-0058, which last fully published in the Federal Register on January 4, 2022 (87 FR 263).

Accessible Format: On request to the program contact person listed under FOR FURTHER INFORMATION CONTACT, individuals with disabilities can obtain this document in an accessible format. The Department will provide the requestor with an accessible format that may include Rich Text Format (RTF) or text format (txt), a thumb drive, an MP3 file, braille, large print, audiotape, compact disc, or other accessible format.

Electronic Access to This Document: The official version of this document is the document published in the Federal Register. You may access the official edition of the Federal Register and the Code of Federal Regulations at www.govinfo.gov. At this site, you can view this document, as well as all other documents of this Department published in the Federal Register, in text or Portable Document Format (PDF). To use PDF, you must have Adobe Acrobat Reader, which is available free at the site.

You may also access documents of the Department published in the Federal Register by using the article search feature at www.federalregister.gov. Specifically, through the advanced search feature at this site, you can limit your search to documents published by the Department.

James Bergeron,
Acting Chief Operating Officer, Federal Student Aid.

[FR Doc. 2025-14849 Filed 8-5-25; 8:45 am]

BILLING CODE 4000-01-P